DEPARTMENT OF COMMERCE

Census Bureau

The 2004 Overseas Enumeration Test

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(C)(2)(A)).

DATES: Written comments must be submitted on or before June 20, 2003.

ADDRESSES: Direct all written comments to Diana Hynek, Departmental Paperwork Clearance Officer, Room 6625, 14th and Constitution Avenue, NW., Washington, DC 20230 (or via the Internet at DHynek@doc.gov).

FOR FURTHER INFORMATION CONTACT: Requests for additional information or copies of the information collection instruments and instructions should be directed to Idabelle Hovland, U.S. Census Bureau, Building 2, Room 2108, Washington, DC 20233-9200, 301-763-8443.

SUPPLEMENTARY INFORMATION:

I. Abstract

In the 1990 and 2000 Censuses, only federal civilian employees, U.S. military, and their dependents living overseas were included in the census. Counts of these people by state were obtained from administrative records and were included in the state populations for the purpose of determining the apportionment of seats in the U.S. House of Representatives. No characteristics were collected for this population, and they were not included in any other tabulations or decennial census data products.

Leading up to the 2000 Census, some Members of Congress, responding to concerns from groups representing overseas Americans, expressed an interest in expanding the census to include all Americans living overseas—private U.S. citizens as well as the federally affiliated. The Bureau informed interested stakeholders that it was too late to pursue an expanded overseas enumeration for 2000, but would investigate the feasibility for the 2010 Census.

In December 2000, as part of the Census Bureau's appropriations bill for FY 2001, the Congress directed that the Census Bureau submit by September 30, 2001, a report on any methodological, logistical, or other issues associated with the inclusion of Americans living abroad in future decennial censuses. The Census Bureau submitted its report September 28, 2001. In the report, the Census Bureau outlined various policy, conceptual, and methodological issues that would have to be addressed during research and testing for the 2010 Census. The report indicated that a conference would be held with stakeholders in the near future and cited plans to conduct a test in 2004.

In November 2001, the Census Bureau held the “Conference on an Enumeration of Americans Overseas in the 2010 Census,” attended by more than two dozen stakeholders, to begin to address issues identified in the September report and obtain input.

In January 2002, the Census Bureau convened the 2010 Overseas Enumeration Research and Planning Group to address policy issues and develop and test a prototype system for collecting data from all Americans living overseas. The feasibility of such an enumeration will be assessed based on the information obtained from the testing cycle.

In preparation for the 2010 Census, the Census Bureau plans to conduct the 2004 Overseas Enumeration Test as part of a research and testing program designed to determine the feasibility, quality, and cost of enumerating Americans living overseas during the 2010 Census. The results of the 2004 Test will be used to provide information and recommendations to inform a test in 2006. If the Census Bureau and the Congress decide to include an expanded overseas enumeration in the 2010 census, a “dress rehearsal” would be conducted in 2008.

The 2004 Test will include U.S. citizens living in France, Kuwait, and Mexico, regardless of how long they have resided abroad (this does not include those on vacations or short business trips). People who are not U.S. citizens will not be included in the counts.

The Census Bureau selected France, Kuwait, and Mexico as test sites based on several criteria. For example, we wanted to have geographic diversity, significant numbers of U.S. citizens, and estimates from administrative records that could be compared to the test census counts for evaluation purposes.

The objectives of the 2004 Overseas Enumeration Test are to determine the feasibility, quality and cost of collecting data from U.S. citizens living overseas.

II. Method of Collection

The Census Bureau will develop a communications strategy to inform and motivate respondents living in the test countries to answer the census. Using this communications strategy, overseas Americans in these test countries will be made aware of the Census Bureau's methodology to enumerate them in the 2004 Test.

To enumerate overseas Americans in the test countries, the Census Bureau will employ three enumeration modes. The Census Bureau will develop a mailing list from persons responding to the “Request for a Questionnaire” (RFQ) form. These RFQ forms will be made available at embassies, consulates and organizations that serve overseas Americans, as well as the Internet. Using the United States Postal Service, the Census Bureau will mail a questionnaire to those respondents in the test countries using the mailing list created from the RFQ operation. The second enumeration mode entails the provision of questionnaires to U.S. citizens at embassies, consulates and organizations that serve overseas Americans. Lastly, the questionnaires also will be available on the Internet for respondents who wish to answer using a computer. The web site for the Internet responses will contain a questionnaire similar to the paper questionnaire. The Census Bureau will evaluate the effectiveness, response rate, and cost of each mode of enumeration.

The Census Bureau will launch a promotional campaign for the RFQ, consisting of different promotional materials to promote and motivate overseas Americans to answer the census. The promotional materials will be sent to the different test countries with instructions in the handling of these materials. Subsequently, the Census Bureau will use advertising materials (magazines and newspapers) to promote and motivate persons to answer the census. The Bureau will evaluate the effectiveness of the plan in reaching the U.S. citizens in the test countries, the cost, and which of the different strategies worked best.

The Census Bureau is designing a unique questionnaire for the overseas enumeration that will contain the same “short form” questions asked stateside for everyone in the household (i.e. name, relationship to others in the household, age, sex, race, and Hispanic origin). Additionally, for every person in the household, we are also asking for citizenship, stateside address, telephone number, social security number, passport number and the person's primary activity. The respondent completing the questionnaire for the household is also asked to provide the foreign address and telephone number for the household residence and to indicate the number of persons living in the residence as of April 1, 2004.

The RFQ form contains six questions to be completed by the head of household. The questions include respondent name, country in which currently residing, mailing address of current residence, social security number, U.S. passport number and number of persons residing at address. “Census Day,” the reference date for enumerating respondents, will be April 1, 2004.

On October 1, 2003 through December 31, 2003, overseas Americans may request questionnaires to be mailed to them. In February 2004, the Census Bureau will begin to mail the census test questionnaires to those who requested them. In March 2004, the questionnaires also will be available at the embassies, consulates, and the various organizations that serve overseas Americans. From March 2004 through July 2004, overseas Americans also may complete and submit their questionnaire via the Internet.

Responses from paper mail returns and the Internet will be data captured in order to analyze, among other things, the demographic characteristics of respondents and patterns of item nonresponse. The results of the test will help shape the data collection strategy for the next census.

III. Data

OMB Number: Not available.

Form Number(s): DO-1, DO-14.

Type of Review: Regular.

Affected Public: Individuals or households.

Estimated Number of Respondents: 450,000.

Estimated Time Per Response: 10 minutes.

Estimated Total Annual Burden Hours: 75,000 hours.

Estimated Total Annual Cost: We estimate the total cost to respondents for postage in mailing back their completed questionnaires to be $150,840. Respondents who reply via the internet will incur no cost.

Respondent Obligation: Mandatory.

Legal Authority: Title 13 of the United States Code, Sections 141 and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 15, 2003.
Madeleine Clayton,
Management Analyst, Office of the Chief Information Officer.

[FR Doc. 03-9677 Filed 4-18-03; 8:45 am]

BILLING CODE 3510-07-P